TENNESSEE VALLEY AUTHORITY

Environmental Impact Statement for Paradise-Wilson 500-kV Transmission System Upgrades

AGENCY: Tennessee Valley Authority.

ACTION: Notice of intent.

SUMMARY: This notice is provided in accordance with the Council on Environmental Quality's regulations (40 CFR 1506.6), Section 106 of the National Historic Preservation Act and its implementing regulations (36 CFR part 800) and the Tennessee Valley Authority (TVA) procedures for implementing the National Environmental Policy Act (NEPA). TVA will prepare an environmental impact statement (EIS) addressing the proposed construction and operation of a new 500-kilovolt (kV) transmission line and other transmission system upgrades in Kentucky and Tennessee. The proposed transmission line would extend from TVA's Paradise Fossil Plant in Muhlenberg County, Kentucky, to TVA's Wilson 500-kV Substation in Wilson County, Tennessee. Depending on the route, the proposed line could involve portions of Muhlenberg, Butler, Simpson, Warren, Logan, Allen, and Ohio Counties in Kentucky and parts of Robertson, Sumner, and Wilson Counties in Tennessee. Proposed transmission system upgrades include uprating 52 miles of TVA's Paradise-Montgomery 500-kV line from 2000 amps to 3000 amps and the replacement of conductors (i.e., wires) on approximately 6 miles of TVA's Wilson-Gladeville 161-kV transmission line. In the EIS, TVA will evaluate the potential environmental impacts of the construction, operation, and maintenance of the new line and other system upgrades. As part of its EIS process, TVA will include public involvement on this proposal. Public comment is invited concerning both the scope of the EIS and environmental issues that should be addressed as a part of this EIS.

DATES: Comments on the scope and environmental issues for the EIS must be postmarked or e-mailed no later than March 26, 2004, to ensure consideration. Late comments will be considered if possible.

ADDRESSES: Written comments should be sent to James F. Williamson, Jr., Senior NEPA Specialist, Environmental Policy and Planning, Tennessee Valley Authority, WT 8C, 400 West Summit Hill Drive, Knoxville, Tennessee 37902-1499. Comments may be e-mailed to jfwilliamson@tva.gov.

FOR FURTHER INFORMATION CONTACT: Hugh S. Barger, Environmental Engineer, Transmission/Power Supply, Tennessee Valley Authority, MR 4G-C, 1101 Market Street, Chattanooga, Tennessee 37402-2801, or telephone 1-800-362-4355. E-mail may be sent to hsbarger@tva.gov.

SUPPLEMENTARY INFORMATION:

Background

Peabody Energy Corporation plans to construct and operate the Thoroughbred Energy Campus, which would consist of a 1,500 megawatt power plant and mine complex, in northern Muhlenberg County, Kentucky. The Federal Power Act, as amended, requires operators of transmission systems to provide interconnection access to independent power generators. Peabody has requested interconnection to the TVA power transmission system and would use the TVA transmission system to distribute as much as half of the 1,500 megawatts of electric power generated by the Thoroughbred plant. Because interconnection service would be provided at Peabody's request, Peabody will reimburse TVA for the cost of necessary upgrades to its transmission system. The planned upgrades are necessary to accommodate Peabody's request and maintain the reliability of the TVA transmission system.

Project Description

In order to interconnect to the TVA transmission system, Peabody Energy Corporation would construct and operate a new 13-mile-long 500-kV transmission line from the Thoroughbred plant to the switchyard at TVA's Paradise Fossil Plant. To maintain reliability of its transmission system, TVA would construct and operate a new 500-kV transmission line from TVA's Paradise Fossil Plant to TVA's Wilson 500-kV substation located about 10 miles west of Lebanon, Tennessee. This proposed line would likely be about 90 miles long, depending on the final route alignment. Neither detailed routing studies nor line design studies have yet been conducted. The Kentucky portion of the proposed line route is primarily rural, consisting of forested areas, reclaimed strip mines, and scattered agriculture. The Tennessee portion contains developing suburban areas along with mixed agricultural land uses. The line would likely be built using self-supporting, laced steel towers on 175-foot-wide right-of-way. The structure type, right-of-way characteristics, and line length remain to be determined and could change when additional information is gathered.

Line construction would require removal of trees within the line right-of-way as well as any other nearby tall trees that would endanger the safe operation of the line.

Construction of the support structures would require the excavation of foundations for the tower legs. Cranes and other heavy equipment would be needed for tower construction and to pull the electrical conductors into place. After construction, the disturbed areas would be restored, and the right-of-way would be maintained periodically to control the growth of tall vegetation that could endanger the line. A detailed description of these activities, as well as applicable and appropriate environmental protection measures, will be provided in the EIS.

TVA also proposes to upgrade portions of two of its existing transmission lines. The 52-mile-long Paradise-Montgomery 500-kV transmission line would be uprated from 2000 amps to 3000s amps by re-tensioning the line (i.e., removing excess slack to allow adequate clearance between the conductors and the ground). This line is located in Muhlenberg and Todd Counties, Kentucky, and in Montgomery County, Tennessee. Also, the electrical conductors would be replaced on about 6 miles of the Wilson-Gladeville 161-kV transmission line in Wilson County, Tennessee. Acquisition of new right-of-way would not be necessary for either of these two upgrades.

After the completion of scoping, TVA will begin detailed line routing studies using maps, aerial photography, and other relevant data. When the studies have progressed sufficiently, potentially affected landowners will be contacted directly, and additional field surveys will be conducted.

Proposed Issues To Be Addressed

The EIS will contain descriptions of the existing environmental and socioeconomic resources within the area that would be affected by construction and operation of the proposed transmission line and upgrades. TVA's evaluation of potential environmental impacts to these resources will include, but will not necessarily be limited to, the potential impacts on water quality, aquatic and terrestrial ecology, endangered and threatened species, wetlands, aesthetics and visual resources, land use, historic and archaeological resources, and socioeconomic resources.

Alternatives

The results of evaluating the potential environmental impacts and other important issues identified in the scoping process, as well as engineering and economic considerations, will be used by TVA in selecting a preferred alternative. At this time, the range of alternatives TVA has identified for detailed evaluation include: (1) No action; and (2) construction and operation of a 500-kV transmission line from Paradise Fossil Plant to the Wilson 500-kV Substation, along with upgrades to existing lines. As additional analyses are conducted, TVA contemplates that alternative routes within the study corridor from Paradise to the Wilson Substation will be identified and evaluated in detail. The no action option is included as an alternative consistent with applicable regulations implementing NEPA. Because TVA is legally required to provide interconnection service to Peabody, the no action alternative is not a feasible option.

Scoping Process

Scoping, which is integral to the process for implementing NEPA, is a procedure that solicits public input to the EIS process to ensure that: (1) Issues are identified early and studied properly; (2) issues of little significance do not consume substantial time and effort; (3) the draft EIS is thorough and balanced; and, (4) delays caused by an inadequate EIS are avoided. TVA's NEPA procedures require that the scoping process commence soon after a decision has been reached to prepare an EIS in order to provide an early and open process for determining the scope of the analysis and for identifying the significant issues related to a proposed action. The range of alternatives and the issues to be addressed in the draft EIS will be determined, in part, from written comments submitted by mail or e-mail and comments presented orally or in writing at public meetings. The preliminary identification of reasonable alternatives and environmental issues in this notice is neither exhaustive nor final. The scoping process will include both interagency and public scoping. The public is invited to submit written comments or e-mail comments on the scope of this EIS no later than the date given under the DATES section of this notice.

TVA will conduct three public scoping meetings within the project study area. Dates and locations of the meetings are:

• February 24, 4-8 p.m.—Butler County High School, 2247 South Main Street, Morgantown, Kentucky.

• February 25, 3-7 p.m.—Franklin-Simpson County School Central Office, Board Room, 400 S. College Street, Franklin, Kentucky.

• March 2, 3-7 p.m.—Gallatin Civic Center, Room 101, 210 Albert Gallatin Avenue, Gallatin, Tennessee.

At each meeting, TVA management and project staff will present overviews of the proposed transmission line project and the EIS process, answer questions, and solicit comments on the issues that the public would like addressed in the EIS. These meetings will be publicized through notices in local newspapers, by TVA press releases to newspapers and radio stations in the study area, and on the TVA Web site (http://www.tva.gov/environment/calendar.htm).

The agencies to be included in the interagency scoping are U.S. Army Corps of Engineers, U.S. Fish and Wildlife Service, Kentucky Department for Environmental Protection, Kentucky State Historic Preservation Officer, Tennessee Department of Environment and Conservation, Tennessee State Historic Preservation Officer, and other federal, state, and local agencies, as appropriate.

After consideration of the scoping comments, TVA will identify any additional alternatives and environmental issues to be addressed in the EIS. Following analysis of the environmental consequences of each alternative, TVA will prepare a draft EIS for public review and comment. Notice of availability of the draft EIS will be published by the Environmental Protection Agency in the Federal Register. TVA will solicit written comments on the draft EIS, and information about possible public meetings to comment on the draft EIS will be announced. TVA expects to release a draft EIS by fall 2004 and a final EIS by summer of 2006.

Dated: February 2, 2004.
Kathryn J. Jackson,
Executive Vice President, River System Operations and Environment.

[FR Doc. 04-2703 Filed 2-6-04; 8:45 am]

BILLING CODE 8120-08-U